DEPARTMENT OF LABOR

Employment and Training Administration

DEPARTMENT OF TRANSPORTATION

Federal Highway Administration

Skilled Workforce for the 21st Century

AGENCIES: DOL, Employment and Training Administration (ETA) and DOT, Federal Highway Administration (FHWA).

ACTION: Notice of public meetings.

SUMMARY: Pursuant to the interagency agreement between the DOL, ETA and the DOT, FHWA announces four public open space forums and an Executive Summit to identify issues, concerns and recommendations for improving the administration of the FHWA On-the-Job Training Program. In addition, the forums and summit will address enhancing the effectiveness of the training and increasing the retention rates of trainees trained on federal-aid highway construction projects. The FHWA On-the-Job Training Program is administered to assist highway construction contractors meet their affirmative action requirements under Executive Order 11246, as amended, and the Federal-aid Highway Act of 1968.

To ensure all issues and concerns are addressed, the participants will establish the agenda for the public open space forums. At the end of each forum, a report of proceedings will be distributed to each participant. Upon the completion of the last forum, a report of findings and recommendations will be presented to highway construction industry leaders at the Executive Summit to obtain their vision of how the ETA and the FHWA can assist the industry in preparing a skilled workforce for the 21st century. Provisions will be made for individuals with disabilities. Although the forums and the Executive Summit are open to the public, space will be limited; therefore, the ETA requests that persons interested in participating in the forums and summit pre-register with: Coffey Communications, LLC, 6917 Arlington Road, Suite 224, Bethesda, MD 20814, 301-907-0900 (Office), 301-907-2925 (Fax), lcoffey@coffeycom.com.

Time: Public open space forums will be held at each of the following locations within the span of two and a half days. The first two days the forums will convene at 8:30 a.m. and adjourn at 5:00 p.m. On the last day, the forum will end at 12:00 noon. The Executive Summit will be within the span of a half-day from 8:30 a.m. to 12 noon.

Dates and Locations:

March 6-8, 2002, Beau Rivage, 875 Beach Boulevard, Biloxi, MS 39530

March 20-22, 2002, Mirage Resort and Casino, 3400 S. Las Vegas Boulevard, Las Vegas, NV 89109

April 3-5, 2002, The Hilton Chicago O'Hare Airport Hotel, 8535 West Higgins Road, Chicago, IL 60666

April 17-19, 2002, Hilton Garden Inn, 1100 Arch Street, Philadelphia, PA 19107

April 30, 2002, Washington Court Hotel, 525 New Jersey Avenue, N.W., Washington, DC 20001

FOR FURTHER INFORMATION CONTACT: Dana Daugherty, Deputy Administrator, Office of Apprenticeship Training, Employer and Labor Services, ETA, U.S. Department of Labor, Room N-4671, 200 Constitution Ave., N.W., Washington, DC 20210, Telephone: 202-693-2796, or Linda J. Brown, Acting Director, Civil Rights Service Business Unit, U.S. Department of Transportation, FHWA, 400 Seventh St., SW., Room 4132, Washington, DC 20590, Telephone: (202) 366-0471; (202) 366-1599. Office hours are from 7:45am to 4:15pm, est., Monday through Friday except Federal holidays. The phone numbers are not toll free numbers.

Signed at Washington, DC, this 11th day of February, 2002.
Emily Stover Derocco,
Assistant Secretary for Employment and Training Administration.
Linda J. Brown,
Acting Director, Civil Rights, Federal Highway Administration.

[FR Doc. 02-3650 Filed 2-13-02; 8:45 am]

BILLING CODE 4510-30-P